DEPARTMENT OF JUSTICE

Office of Justice Programs

Agency Information Collection Activities: Proposed Collection; Comment Requested

ACTION: 60-Day notice information collection under review: New collection: needs assessment for service providers of trafficking victims telephone survey.

The Department of Justice, Office of Justice Programs, Bureau of Justice Statistics has submitted the following information collection request to the Office of Management and Budget (OMB) for review and clearance in accordance with emergency review procedures of the Paperwork Reduction Act of 1995. OMB approval has been requested by March 13, 2003. The proposed information collection is published to obtain comments from the public and affected agencies. If granted, the emergency approval is only valid for 180 days. Comments should be directed to OMB, Office of Information Regulation Affairs, Attention: Department of Justice Desk Officer (202) 395-6466, Washington, DC 20503.

During the first 60 days of this same review period, a regular review of this information collection is also being undertaken. All comments and suggestions, or questions regarding additional information, to include obtaining a copy of the proposed information collection instrument with instructions, should be directed to Marvene O'Rourke, 202-514-9802, National Institute of Justice, Office of Justice Programs, U.S. Department of Justice, 8107th Street, NW., Washington, DC 20531.

Request written comments and suggestions from the public and affected agencies concerning the proposed collection of information. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of information collection: New collection.

(2) The title of the form/collection: Needs Assessment for Service Providers of Trafficking Victims Telephone Survey.

(3) The agency form number, if any, and the applicable component of the Department sponsoring the collection: No form number. National Institute of Justice, Office of Justice Programs, U.S. Department of Justice.

(4) Affected public who will be asked or required to respond, as well as a brief abstract: Affected Public Agencies and/or organizations who work with victims of trafficking in persons or advocate on their behalf. This collection will gather information related to assessing the needs of service providers who provide assistance to victims of trafficking in persons. The data will then be used to advise the Office of Justice Policy for the development of pilot data-driven programs to serve trafficking victims and ensure that these pilot programs are both responsive and effective in meeting the needs of trafficking victims.

(5) An estimate of the total number of respondents and the amount of time estimated for an average respondent to respond/reply: It is estimated that 50 respondents will each complete a 1 hour telephone survey.

(6) An estimate of the total public burden (in hours) associated with the collection: An estimate of the total hour burden to conduct this survey is 50 hours.

If additional information is required contact: Ms. Brenda E. Dyer, Deputy Clearance Officer, United States Department of Justice, Information Management and Security Staff, Justice Management Division, Suite 1600, 601 D Street, NW, Wasington, DC 20530.

Dated: February 27, 2002.
Brenda E. Dyer,
Department Deputy Clearance Officer, United States Department of Justice.

[FR Doc. 02-5149 Filed 3-4-02; 8:45 am]

BILLING CODE 4410-18-M